DEPARTMENT OF TRANSPORTATION

Federal Aviation Administration

14 CFR Part 39

[Docket No. FAA-2016-9380; Directorate Identifier 2016-NE-21-AD]

RIN 2120-AA64

Airworthiness Directives; CFE Company Turbofan Engines

AGENCY: Federal Aviation Administration (FAA), DOT.

ACTION: Notice of proposed rulemaking (NPRM).

SUMMARY: We propose to adopt a new airworthiness directive (AD) for certain CFE Company (CFE) turbofan engines. This proposed AD was prompted by a quality escape for high-pressure compressor (HPC) impellers made from forgings with nonconforming material grain size. This proposed AD would require removal of the HPC impeller. We are proposing this AD to correct the unsafe condition on these products.

DATES: We must receive comments on this proposed AD by February 17, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2016-9380; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Martin Adler, Aerospace Engineer, Engine Certification Office, FAA, 1200 District Avenue, Burlington, MA 01803; phone: 781-238-7157; fax: 781-238-7199; email: martin.adler@faa.gov.

SUPPLEMENTARY INFORMATION:

Comments Invited

We invite you to send any written relevant data, views, or arguments about this proposal. Send your comments to an address listed under the ADDRESSES section. Include “Docket No. FAA-2016-9380; Directorate Identifier 2016-NE-21-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We propose to adopt an AD for certain CFE CFE738-1-1B model turbofan engines with HPC impeller, part number (P/N) 6079T77P07 or P/N 6079T77P09 installed. This proposed AD was prompted by a quality escape for HPC impellers made from forgings with nonconforming material grain size. This condition, if not corrected, could result in failure of the HPC impeller, damage to the engine, and damage to the airplane.

Related Service Information Under 1 CFR Part 51

We reviewed CFE Service Bulletin (SB) CFE738-72-8080, Revision 0, dated August 18, 2016. The SB describes procedures for replacing specific serial numbered HPC impellers, P/N 6079T77P07 or P/N 6079T77P09. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require removal of affected HPC impellers from service and replacement with a part eligible for installation.

Costs of Compliance

We estimate that this proposed AD affects 176 engines installed on airplanes of U.S. registry.

We estimate the following costs to comply with this proposed AD:

Estimated Costs
Action | Labor cost | Parts cost | Cost per product | Cost on U.S. operators
Pro-rated HPC impeller | $0.00 | $42,240 | $42,240 | $7,434,240

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

CFE Company: Docket No. FAA-2016-9380; Directorate Identifier 2016-NE-21-AD.

(a) Comments Due Date

We must receive comments by February 17, 2017.

(b) Affected ADs

None.

(c) Applicability

This AD applies to CFE Company (CFE) CFE738-1-1B model turbofan engines with a high-pressure compressor (HPC) impeller, part number (P/N) 6079T77P07 or P/N 6079T77P09, with a serial number listed in CFE Service Bulletin (SB) CFE738-72-8080, Revision 0, dated August 18, 2016, installed.

(d) Subject

Joint Aircraft System Component (JASC) of America Code 7230, Turbine Engine Compressor Section.

(e) Unsafe Condition

This AD was prompted by a quality escape for HPC impellers made from forgings with nonconforming material grain size. We are issuing this AD to prevent uncontained failure of the HPC impeller, damage to the engine, and damage to the airplane.

(f) Compliance

Comply with this AD within the compliance times specified, unless already done.

(g) Required Action

Remove all affected HPC impellers from service at the next piece-part exposure and replace with a part eligible for installation.

(h) Definition

For the purposes of this AD, “piece-part exposure” is defined as separation of the impeller from the compressor rotor assembly.

(i) Alternative Methods of Compliance (AMOCs)

(1) The Manager, Engine Certification Office, FAA, may approve AMOCs for this AD. Use the procedures found in 14 CFR 39.19 to make your request. You may email your request to: ANE-AD-AMOC@faa.gov.

(2) Before using any approved AMOC, notify your appropriate principal inspector, or lacking a principal inspector, the manager of the local flight standards district office/certificate holding district office.

(j) Related Information

(1) For more information about this AD, contact Martin Adler, Aerospace Engineer, Engine Certification Office, FAA, 1200 District Avenue, Burlington, MA 01803; phone: 781-238-7157; fax: 781-238-7199; email: martin.adler@faa.gov.

(2) For service information identified in this proposed AD, contact CFE Company, 111 S. 34th Street, Phoenix, Arizona 85034-2802; phone: 800-601-3099; Internet: https://www.myaerospace.com.

(3) You may view this service information at FAA, Engine & Propeller Directorate, 1200 District Avenue, Burlington, MA. For information on the availability of this material at the FAA, call 781-238-7125.

Issued in Burlington, Massachusetts, on December 15, 2016.
Colleen M. D'Alessandro,
Manager, Engine & Propeller Directorate, Aircraft Certification Service.

[FR Doc. 2016-30951 Filed 12-30-16; 8:45 am]

BILLING CODE 4910-13-P